DEPARTMENT OF VETERANS AFFAIRS

[OMB Control No. 2900-0661]

Agency Information Collection (Grants to States for Construction & Acquisition of State Home Facilities)

ACTIVITY: Under OMB Review.

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before October 6, 2014.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0661” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0661” in any correspondence.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

SUPPLEMENTARY INFORMATION:

Title: Forms for Grants to States for Construction and Acquisition of State Home Facilities, VA Forms 10-0388-1, 10-0388-2, 10-0388-3, 10-0388-4, 10-0388-5, 10-0388-6, 10-0388-7, 10-0388-8, 10-0388-9, 10-0388-10, 10-0388-12, 10-0388-13.

OMB Control Number: 2900-0661.

Type of Review: Revision of a currently approved collection.

Abstract: State governments complete VA Forms 10-0388-1, 10-0388-2, 10-0388-3, 10-0388-4, 10-0388-5, 10-0388-6, 10-0388-7, 10-0388-8, 10-0388-9, 10-0388-10, 10-0388-12, and 10-0388-13, to apply for State Home Construction Grant Program and to certify compliance with VA requirements. VA uses this information, along with other documents submitted by States, to determine the feasibility of the projects for VA participation to determine eligibility for a grant award.

Affected Public: State, Local, or Tribal Governments.

Estimated Total Annual Burden: 1,200 hours.

Estimated Average Burden per Respondent: 24 hours.

Frequency of Response: On occasion.

Estimated Number of Respondents: 50.

Dated: September 2, 2014.
By direction of the Secretary:
Crystal Rennie,
VA Clearance Officer, U.S. Department of Veterans Affairs.

[FR Doc. 2014-21152 Filed 9-4-14; 8:45 am]

BILLING CODE 8320-01-P